FEDERAL MARITIME COMMISSION

Ocean Transportation Intermediary License

Reissuance

Notice is hereby given that the following Ocean Transportation Intermediary license has been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
004130NF | GSG Investment Inc., dba Worldwide Logistics Company dba WWL dba Trade Passage, 2411 Santa Fe Avenue, Redondo Beach, CA 90278 | April 17, 2004.

Sandra L. Kusumoto,
Director, Bureau of Consumer Complaints and Licensing.

[FR Doc. 04-15990 Filed 7-14-04; 8:45 am]

BILLING CODE 6730-01-P